DEPARTMENT OF COMMERCE

International Trade Administration

[A-570-053, C-570-054]

Antidumping and Countervailing Duty Orders on Certain Aluminum Foil From the People's Republic of China: Final Affirmative Determinations of Circumvention With Respect to the Republic of Korea and the Kingdom of Thailand

AGENCY: Enforcement and Compliance, International Trade Administration, Department of Commerce.

SUMMARY: The U.S. Department of Commerce (Commerce) determines that imports of certain aluminum foil (aluminum foil) that were exported from the Republic of Korea (Korea) and from the Kingdom of Thailand (Thailand), using inputs (i.e., aluminum foil- and sheet-gauge products) manufactured in the People's Republic of China (China), as specified below, are circumventing the antidumping duty (AD) and countervailing duty (CVD) orders on aluminum foil from China.

DATES: Applicable November 27, 2023.

FOR FURTHER INFORMATION CONTACT: Michael J. Heaney and Mark Flessner, Office VI, Enforcement and Compliance, International Trade Administration, U.S. Department of Commerce, 1401 Constitution Avenue NW, Washington, DC 20230; telephone: (202) 482-4475 and (202) 482-6312, respectively.

SUPPLEMENTARY INFORMATION:

Background

On April 19, 2018, Commerce published in the Federal Register AD and CVD orders on U.S. imports of aluminum foil from China.¹ On July 18, 2022, pursuant to section 781(b) of the Tariff Act of 1930, as amended (the Act), and 19 CFR 351.226(b), Commerce self-initiated country-wide circumvention inquiries to determine whether imports of aluminum foil, completed in Korea and Thailand (collectively, the third countries), using inputs (i.e., aluminum foil- and sheet-gauge products) manufactured in China, are circumventing the Orders and, accordingly, should be covered by the scope of the Orders.² On March 22, 2023, Commerce published in the Federal Register its Preliminary Determinations that imports of certain aluminum foil that were exported from Korea and Thailand using inputs (i.e., aluminum foil and sheet gauge products) are circumventing the Orders.³ On March 28, 2023, Commerce published a correction to the Preliminary Determinations which listed corrected AD and CVD cash deposit rates associated with the Preliminary Determinations.⁴

¹ See Certain Aluminum Foil from the People's Republic of China: Amended Final Determination of Sales at Less Than Fair Value and Antidumping Duty Order, 83 FR 17362 (April 19, 2018) (AD Order); see also Certain Aluminum Foil from the People's Republic of China: Amended Final Affirmative Countervailing Duty Determination and Countervailing Duty Order, 83 FR 17360 (April 19, 2018) (CVD Order) (collectively, Orders).

² See Certain Aluminum Foil from the People's Republic of China: Initiation of Circumvention Inquiries on the Antidumping Duty and Countervailing Duty Orders, 87 FR 42702 (July 18, 2022) (Initiation Notice).

³ Antidumping and Countervailing Duty Determinations on Certain Aluminum Foil from the People's Republic of China: Preliminary Affirmative Determinations of Circumvention with Respect to the Republic of Korea and the Kingdom of Thailand, 88 FR 17177 (March 22, 2023) (Preliminary Determinations), and accompanying Korea Preliminary Decision Memorandum (Korea PDM) and Thailand Preliminary Decision Memorandum (Thailand PDM) (collectively, Preliminary Decision Memoranda).

⁴ See Antidumping and Countervailing Duty Orders on Certain Aluminum Foil from the People's Republic of China: Preliminary Affirmative Determinations of Circumvention With Respect to the Republic of Korea and the Kingdom of Thailand; Correction, 88 FR 18297 (March 28, 2023) (Preliminary Determinations Correction).

On July 12 and September 26, 2023, Commerce extended the deadline for the final determinations of these circumvention inquiries to November 17, 2023.⁵ For a summary of events that occurred since the Preliminary Determinations, as well as a full discussion of the issues raised by parties for consideration in these final determinations, see the Issues and Decision Memoranda.⁶

⁵ See Memoranda, “Extension of Final Determinations in Circumvention Inquiries,” dated July 12, 2023; and “Extension of Final Determinations in Circumvention Inquiries,” dated September 26, 2023.

⁶ See Memoranda, “Issues and Decision Memorandum for the Final Affirmative Circumvention Determination of the Antidumping Duty Order on Certain Aluminum Foil from the People's Republic of China with Respect to the Republic of Korea,” dated concurrently with, and hereby adopted by, this notice; and “Issues and Decision Memorandum for the Circumvention Determination of the Antidumping Duty Order on Certain Aluminum Foil from the People's Republic of China with Respect to the Kingdom of Thailand,” dated concurrently with, and hereby adopted by, this notice (collectively, Issues and Decision Memoranda).

The Issues and Decision Memoranda are public documents and are on file electronically via Enforcement and Compliance's Antidumping and Countervailing Duty Centralized Electronic Service System (ACCESS). A list of issues discussed in the Issues and Decision Memoranda are included as Appendix I to this notice. ACCESS is available to registered users at https://access.trade.gov. In addition, complete versions of the Issues and Decision Memoranda can be accessed directly at https://access.trade.gov/public/FRNoticesListLayout.aspx.

Scope of the Order

The merchandise covered by the Orders is certain aluminum foil. For a full description of the scope of the Orders, see the Issues and Decision Memoranda.

Merchandise Subject to the Circumvention Inquiry

These circumvention inquiries cover aluminum foil, assembled or completed in Korea and Thailand using Chinese-origin aluminum foil and/or sheet, that is subsequently exported from Korea and Thailand to the United States (inquiry merchandise).

Methodology

Commerce conducted these circumvention inquiries in accordance with section 781(b) of the Act and 19 CFR 351.226. See Preliminary Determinations Korea PDM and Thailand PDM for a full description of the methodology.⁷ We have continued to apply this methodology, without exception, and incorporate by reference this description of the methodology, for our final determinations.

⁷ See Preliminary Determinations Korea PDM at 6-23 and Thailand PDM at 8-23.

Analysis of Comments Received

All issues raised in the case and rebuttal briefs by parties in these inquiries are addressed in the Issues and Decision Memoranda. Based on our analysis of the comments received from interested parties, we made no changes to the Preliminary Determinations, except for revisions to the certification language (see Appendix II), which we have modified in response to comments to allow parties to also use the certifications when their third-country shipments of certain aluminum foil reflect prevailing aluminum cash deposit rates.

Final Circumvention Determinations

We determine that aluminum foil, assembled or completed in Korea and Thailand by the entities identified in Appendix II to this notice, using Chinese-origin aluminum foil and/or sheet, that is subsequently exported from Korea or Thailand to the United States, is circumventing the Orders. For a detailed explanation of our determinations with respect to the entities identified in Appendix II, see the Preliminary Decision Memoranda and the “Use of Adverse Facts Available” section of this notice, below.⁸

⁸ See Preliminary Determinations Korea PDM at 2-3 and Thailand PDM at 2-3 and 15.

We also determine that U.S imports of inquiry merchandise exported from Korea and Thailand are circumventing the Orders on a country-wide basis. As a result, in accordance with section 781(b) of the Act, we determine that this merchandise is covered by the Orders.

See the “Suspension of Liquidation and Cash Deposit Requirements” section below for details regarding suspension of liquidation and cash deposit requirements. See the “Certification” and “Certification Requirements” sections below for details regarding the use of certifications.

Use of Adverse Facts Available

Within the context of the Thailand inquiry, Commerce continues to find that necessary information is not available on the record with respect to Sankyu Thai Co., Ltd. (Sankyu) within the meaning of section 776(a)(1) of the Act, and that Sankyu withheld requested information, failed to provide requested information by the deadline or in the form or manner requested, and significantly impeded these inquiries pursuant to sections 776(a)(1), (A), (B), and (C) of the Act. Moreover, Commerce continues to find that Sankyu failed to cooperate by not acting to the best of its ability to provide requested information pursuant to section 776(b)(1) of the Act. Consequently, we have continued to use adverse inferences with respect to Sankyu in selecting from among the facts otherwise available on the record, pursuant to sections 776(a) and (b) of the Act, for the reasons discussed in the Preliminary Determinations.⁹

⁹ See Preliminary Determinations, 88 FR 17178.

Based on the adverse facts available used, we determine that Sankyu exported inquiry merchandise and that U.S. entries of that merchandise are circumventing the Orders. Additionally, we are precluding Sankyu from participating in the certification programs that we are establishing for exports of aluminum foil from Thailand. U.S. entries of inquiry merchandise made on or after July 18, 2022, that are ineligible for certification based on the failure of Sankyu to cooperate, or for other reasons, shall remain subject to suspension of liquidation until final assessment instructions on those entries are issued, whether by automatic liquidation instructions, or by instructions pursuant to the final results of an administrative review. Interested parties that wish to have their suspended entries, if any, reviewed, and their ineligibility for the certification program reevaluated, should request an administrative review of the relevant suspended entries during the anniversary month of these Orders.¹⁰

¹⁰ See 19 CFR 351.213(b).

Suspension of Liquidation and Cash Deposit Requirements

Based on the affirmative country-wide determination of circumvention for Korea and Thailand, in accordance with 19 CFR 351.226(l)(3), Commerce will direct U.S. Customs and Border Protection (CBP) to suspend liquidation and require a cash deposit of estimated duties on unliquidated entries of entries of aluminum foil, assembled or completed in Korea and Thailand using Chinese-origin aluminum foil and/or sheet, for consumption on or after July 18, 2022, the date of publication of the initiation of these circumvention inquiries in the Federal Register.

For exporters of aluminum foil that have a company-specific cash deposit rate under the AD Order and/or CVD Order, the cash deposit rate will be the company-specific AD and/or CVD cash deposit rate established for that company in the most recently completed segment of the aluminum foil proceedings. For exporters of aluminum foil that do not have a company-specific cash deposit rate under the AD Order and/or CVD Order, the cash deposit rate will be the company-specific cash deposit rate established under the AD Order and/or CVD Order for the company that exported the aluminum foil and/or sheet to the producer/exporter in Korea or Thailand that was incorporated in the imported aluminum foil. If neither the exporter of the aluminum foil from Korea or Thailand, nor the Chinese exporter of the aluminum foil and/or sheet, has a company-specific cash deposit rate, the AD cash deposit rate will be the China-wide rate (i.e., 95.15 percent), and the CVD cash deposit rate will be the all-others rate (i.e., 13.28 percent).¹¹ Commerce has established the following third-country case numbers in the Automated Commercial Environment (ACE) for such entries: Korea—A-580-053/C-580-054; Thailand—A-549-053/C-549-054. The suspension of liquidation will remain in effect until further notice.

¹¹ See Preliminary Determinations Correction, 88 FR 18287.

Certified Entries

Entries for which the importer and exporter have met the certification requirements described below and in Appendix III to this notice will not be subject to suspension of liquidation, or the cash deposit requirements described above. Failure to comply with the applicable certification requirements may result in the merchandise being subject to antidumping and countervailing duties.

Certifications

To administer the country-wide affirmative determinations of circumvention for Korea and Thailand, Commerce established importer and exporter certifications which will permit importers and exporters to establish that specific entries of aluminum foil from Korea or Thailand are not subject to suspension of liquidation or the collection of cash deposits pursuant to these affirmative determinations of circumvention because the merchandise meets the requirements described in the certification (see Appendix III to this notice). Because Sankyu was non-cooperative, it is not eligible to use the certification described above.¹²

¹² See the “Use of Adverse Facts Available” section, supra; see also, e.g., Anti-circumvention Inquiry of the Antidumping Duty Order on Certain Pasta from Italy: Affirmative Preliminary Determination of Circumvention of the Antidumping Duty Order, 63 FR 18364, 18366 (April 15, 1998), unchanged in Anti-Circumvention Inquiry of the Antidumping Duty Order on Certain Pasta from Italy: Affirmative Final Determination of Circumvention of the Antidumping Duty Order, 63 FR 54672, 54675-76 (October 13, 1998).

Importers and exporters that claim that the entry of aluminum foil is not subject to suspension of liquidation or the collection of cash deposits based on the inputs used to manufacture such merchandise must complete the applicable certification and meet the certification and documentation requirements described below, as well as the requirements identified in the applicable certification.

Certification Requirements for Korea and Thailand

Importers are required to complete and maintain the applicable importer certification, and maintain a copy of the applicable exporter certification, and retain all supporting documentation for both certifications. With the exception of the entries described below, the importer certification must be completed, signed, and dated by the time the entry summary is filed for the relevant entry. The importer, or the importer's agent, must submit both the importer's certification and the exporter's certification to CBP as part of the entry process by uploading them into the document imaging system (DIS) in ACE. Where the importer uses a broker to facilitate the entry process, the importer should obtain the entry summary number from the broker. Agents of the importer, such as a broker, however, are not permitted to certify on behalf of the importer.

Exporters are required to complete and maintain the applicable exporter certification and provide the importer with a copy of that certification and all supporting documentation (e.g., invoice, purchase order, production records, etc.). With the exception of the entries described below, the exporter certification must be completed, signed, and dated by the time of shipment of the relevant entries. The exporter certification should be completed by the party selling the aluminum foil that was manufactured in Korea or Thailand to the United States.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For unliquidated entries (and entries for which liquidation has not become final) of aluminum foil that were declared as non-AD type entries (e.g., type 01) and entered, or withdrawn from warehouse, for consumption in the United States during the period July 18, 2022 (the date of initiation of these circumvention inquiries), through the date of publication of the Preliminary Determinations in the Federal Register, for which none of the above certifications may be made, importers must file a Post Summary Correction with CBP, in accordance with CBP's regulations, regarding conversion of such entries from non-AD type entries to AD type entries (e.g., type 01 to type 03). Importers should report those AD type entries using the third country case numbers identified in the “Suspension of Liquidation and Cash Deposit Requirements” section, above. The importer should post cash deposits on those entries consistent with the regulations governing post summary corrections that require payment of additional duties, including antidumping and countervailing duties.

If it is determined that an importer and/or exporter has not met the certification and/or related documentation requirements for certain entries, Commerce intends to instruct CBP to suspend, pursuant to this country-wide affirmative determination of circumvention and the Orders,¹³ all unliquidated entries for which these requirements were not met and require the importer to post applicable cash deposits equal to the rates noted above.

¹³ See Orders.

Opportunity To Request an Administrative Review

Each year during the anniversary month of the publication of an AD or CVD order, finding, or suspended investigation, an interested party, as defined in section 771(9) of the Act, may request, in accordance with 19 CFR 351.213, that Commerce conduct an administrative review of that AD or CVD order, finding, or suspended investigation. An interested party who would like Commerce to conduct an administrative review should wait until Commerce announces via the Federal Register the next window during the anniversary month of the publication of the Orders to submit such requests. The anniversary month for these Orders is April.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

This determination is issued and published in accordance with section 781(b) of the Act and 19 CFR 351.226(g)(2).

Dated: November 17, 2023.
Abdelali Elouaradia,
Deputy Assistant Secretary for Enforcement and Compliance.

Appendix I

List of Topics Discussed in the Issues and Decision Memoranda

Korea

I. Summary

II. Background

III. Scope of the Orders

IV. Merchandise Subject to the Circumvention Inquiry

V. Period of Circumvention Inquiry

VI. Changes from the Preliminary Determination

VII. Discussion of the Issues

Comment 1: Whether these Inquiries Are Appropriate

Comment 2: Application of the Factors in Section 781(a)(2)(A)-(E) of the Act

Comment 3: Whether the Value of the Merchandise Produced in China Is a Significant Portion of the Total Value of the Merchandise Exported to the United States

Comment 4: Definitions of Sheet and Strip

Comment 5: Whether Different Market Situations in Korea and Thailand compel Different Circumvention Analyses

Comment 6: Patterns of trade

Comment 7: Certification/Proposed Exclusions

Comment 8: Extension of Time for Certifications

VIII. Recommendation

Thailand

I. Summary

II. Background

III. Scope of the Orders

IV. Merchandise Subject to the Circumvention Inquiry

V. Period of Circumvention Inquiry

VI. Changes from the Preliminary Determination

VII. Discussion of the Issues

Comment 1: Whether these Inquiries Are Appropriate

Comment 2: Application of the Factors in Section 781(a)(2)(A)-(E) of the Act

Comment 3: Whether the Value of the Merchandise Produced in China Is a Significant Portion of the Total Value of the Merchandise Exported to the United States

Comment 4: Definitions of Sheet and Strip

Comment 5: Certification/Proposed Exclusions

Comment 6: Separate Rates

Comment 7: Extension of Time for Certifications

VIII. Recommendation

Appendix II

Companies Found To Be Circumventing the Orders

Korea

1. Dong-IL Aluminium Co., Ltd.

2. Lotte Aluminium Co., Ltd.

3. Dongwon Systems Corp.

4. ILJIN ALTECH Co., Ltd.

5. Korea Aluminium Co., Ltd.

6. Sam-A Aluminium Co., Ltd.

Thailand

1. Dingheng New Materials Co., Ltd.

2. Ding Li New Materials Co., Ltd.

3. Sankyu Thai Co., Ltd. (based on adverse facts available)

Appendix III

Certification Regarding Chinese Components

Importer Certification

I hereby certify that:

A. My name is {IMPORTING COMPANY OFFICIAL'S NAME} and I am an official of {NAME OF IMPORTING COMPANY}, located at {ADDRESS OF IMPORTING COMPANY}.

B. I have direct personal knowledge of the facts regarding the importation into the Customs territory of the United States of the aluminum foil completed in {COUNTRY} that entered under the entry summary number(s), identified below, and are covered by this certification. “Direct personal knowledge” refers to the facts the certifying party is expected to have in its own records. For example, the importer should have direct personal knowledge of the exporter's and/or seller's identity and location.

C. If the importer is acting on behalf of the first U.S. customer, include the following sentence as paragraph C of this certification:

The aluminum foil covered by this certification was imported by {NAME OF IMPORTING COMPANY} on behalf of {NAME OF U.S. CUSTOMER}, located at {ADDRESS OF U.S. CUSTOMER}.

If the importer is not acting on behalf of the first U.S. customer, include the following sentence as paragraph C of this certification:

{NAME OF IMPORTING COMPANY} is not acting on behalf of the first U.S. customer.

D. The aluminum foil covered by this certification was shipped to {NAME OF PARTY IN THE UNITED STATES TO WHOM THE MERCHANDISE WAS FIRST SHIPPED}, located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of the inputs used to produce the imported products).

F. The importer certifies that the aluminum foil produced in {COUNTRY} that is covered by this certification was not manufactured using aluminum foil and/or sheet produced in the People's Republic of China (China), regardless of whether sourced directly from a Chinese producer or from a downstream supplier.

G. The aluminum foil covered by this certification is not covered by the antidumping duty or countervailing duty orders on certain aluminum foil from China.

H. This certification applies to the following entries (repeat this block as many times as necessary):

Entry Summary #:

Entry Summary Line Item #:

Foreign Seller:

Foreign Seller's Address:

Foreign Seller's Invoice #:

Foreign Seller's Invoice Line Item #:

Producer:

Producer's Address:

I. I understand that {NAME OF IMPORTING COMPANY} is required to maintain a copy of this certification and sufficient documentation supporting this certification (i.e., documents maintained in the normal course of business, or documents obtained by the certifying party, for example, product specification sheets, production records, invoices, etc.) until the later of: (1) the date that is five years after the latest entry date of the entries covered by the certification; or (2) the date that is three years after the conclusion of any litigation in United States courts regarding such entries.

J. I understand that {NAME OF IMPORTING COMPANY} is required to maintain a copy of the exporter's certification (attesting to information regarding the production and/or exportation of the imported merchandise identified above), and any supporting documentation provided to the importer by the exporter, until the later of: (1) the date that is five years after the latest entry date of the entries covered by the certification; or (2) the date that is three years after the conclusion of any litigation in United States courts regarding such entries.

K. I understand that {NAME OF IMPORTING COMPANY} is required to provide U.S. Customs and Border Protection (CBP) and/or the U.S. Department of Commerce (Commerce) with the importer certification, and any supporting documentation, and a copy of the exporter's certification, and any supporting documentation provided to the importer by the exporter, upon the request of either agency.

L. I understand that the claims made herein, and the substantiating documentation, are subject to verification by CBP and/or Commerce.

M. I understand that failure to maintain the required certifications and supporting documentation, or failure to substantiate the claims made herein, or not allowing CBP and/or Commerce to verify the claims made herein, may result in a de facto determination that all entries to which this certification applies are entries of merchandise that is covered by the scope of the antidumping and countervailing duty orders on aluminum foil from China. I understand that such a finding will result in:

(i) suspension of liquidation of all unliquidated entries (and entries for which liquidation has not become final) for which these requirements were not met;

(ii) the importer being required to post the antidumping duty and countervailing duty cash deposits determined by Commerce; and

(iii) the importer no longer being allowed to participate in the certification process.

N. I understand that agents of the importer, such as brokers, are not permitted to make this certification.

O. This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register.

P. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF EXPORTING COMPANY}, located at {ADDRESS OF EXPORTING COMPANY}.

B. I have direct personal knowledge of the facts regarding the production and exportation of the aluminum foil for which sales are identified below. “Direct personal knowledge” refers to facts the certifying party is expected to have in its own records. For example, an exporter should have direct personal knowledge of the producer's identity and location.

C. The aluminum foil covered by this certification was shipped to {NAME OF PARTY IN THE UNITED STATES TO WHOM MERCHANDISE WAS FIRST SHIPPED}, located at {U.S. ADDRESS TO WHICH MERCHANDISE WAS SHIPPED}.

D. The seller certifies that the aluminum foil produced in {COUNTRY} that is covered by this certification was not manufactured using aluminum foil and/or sheet produced in the People's Republic of China (China), regardless of whether sourced directly from a Chinese producer or from a downstream supplier.

E. The aluminum foil covered by this certification is not covered by the antidumping duty or countervailing duty orders on certain aluminum foil from China.

F. This certification applies to the following sales to {NAME OF U.S. CUSTOMER}, located at {ADDRESS OF U.S. CUSTOMER} (repeat this block as many times as necessary):

Foreign Seller's Invoice # to U.S. Customer:

Foreign Seller's Invoice to U.S. Customer Line Item #:

Producer Name:

Producer's Address:

Producer's Invoice # to the Foreign Seller: (if the foreign seller and the producer are the same party, report “NA” here)

G. I understand that {EXPORTING COMPANY} is required to maintain a copy of this certification and sufficient documentation supporting this certification (i.e., documents maintained in the normal course of business, or documents obtained by the certifying party, for example, product specification sheets, customer specification sheets, production records, invoices, etc.) until the later of: (1) the date that is five years after the latest entry date of the entries covered by the certification; or (2) the date that is three years after the conclusion of any litigation in United States courts regarding such entries.

H. I understand that {EXPORTING COMPANY}is required to provide the U.S. importer with a copy of this certification and is required to provide U.S. Customs and Border Protection (CBP) and/or the U.S. Department of Commerce (Commerce) with this certification, and any supporting documents, upon the request of either agency.

I. I understand that the claims made herein, and the substantiating documentation, are subject to verification by CBP and/or Commerce.

J. I understand that failure to maintain the required certification and supporting documentation, or failure to substantiate the claims made herein, or not allowing CBP and/or Commerce to verify the claims made herein, may result in a de facto determination that all sales to which this certification applies are sales of merchandise that is covered by the scope of the antidumping and countervailing duty orders on aluminum foil from China. I understand that such a finding will result in:

(i) suspension of liquidation of all unliquidated entries (and entries for which liquidation has not become final) for which these requirements were not met;

(ii) the importer being required to post the antidumping and countervailing duty cash deposits determined by Commerce; and

(iii) the seller/exporter no longer being allowed to participate in the certification process.

K. I understand that agents of the seller/exporter, such as freight forwarding companies or brokers, are not permitted to make this certification.

L. This certification was completed and signed, and a copy of the certification was provided to the importer, on, or prior to, the date of shipment if the shipment date is after the date of publication of the notice of Commerce's preliminary determination of circumvention in the Federal Register. If the shipment date is on or before the date of publication of the notice of Commerce's preliminary determination of circumvention in the Federal Register, this certification was completed and signed, and a copy of the certification was provided to the importer, by no later than 45 days after publication of the notice of Commerce's preliminary determination of circumvention in the Federal Register.

M. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

[FR Doc. 2023-26030 Filed 11-24-23; 8:45 am]

BILLING CODE 3510-DS-P